FEDERAL EMERGENCY MANAGEMENT AGENCY

44 CFR Part 206

Extension of Application Period for Temporary Housing Assistance

CFR Correction

In Title 44 of the Code of Federal Regulations, revised as of October 1, 2001, on page 411, in § 206.101, paragraph (e)(1) is revised to read as follows:

§ 206.101 Temporary housing assistance.

* * * * *

(e) * * *

(1) Application period. The standard FEMA application period is the 60 days following the date the President declares an incident a major disaster or an emergency. The Regional Director may, however, extend the application period, when we anticipate that we need more time to collect applications from the affected population or to establish the same application deadline for contiguous Counties or States. After the application period has ended, FEMA will accept and process applications for an additional 60 days only from persons who can provide an acceptable explanation (and documentation to substantiate their explanation) for why they were not able to contact FEMA before the application period ended.

* * * * *

[FR Doc. 02-55507 Filed 3-20-02; 8:45 am]

BILLING CODE 1505-01-D